DEPARTMENT OF THE INTERIOR

Bureau of Indian Affairs

[212A2100DD/AAKC001030/A0A501010.999900253G]

Indian Entities Recognized and Eligible To Receive Services From the United States Bureau of Indian Affairs; Correction

AGENCY: Bureau of Indian Affairs, Interior.

ACTION: Notice; correction.

SUMMARY: On January 29, 2021, the Bureau of Indian Affairs (BIA) published in the Federal Register the current list of 574 Tribal entities recognized and eligible for funding and services from the Bureau of Indian Affairs by virtue of their status as Indian Tribes. The document contained three names that the named Tribes have requested we update.

FOR FURTHER INFORMATION CONTACT: Laurel Iron Cloud, Bureau of Indian Affairs, Office of Indian Services, Division of Tribal Government Services, Mail Stop 4513-MIB, 1849 C Street NW, Washington, DC 20240. Telephone number: (202) 513-7641.

SUPPLEMENTARY INFORMATION:

Corrections

In the Federal Register of January 29, 2021, in FR Doc. 2021-01606, on page 7556, in the second column, correct the name of “Poarch Band of Creeks [previously known as the Poarch Band of Creek Indians of Alabama]” to read “Poarch Band of Creek Indians [previously known as the Poarch Band of Creeks, and as the Poarch Band of Creek Indians of Alabama]”.

On page 7555, in the third column, correct “Kewa Pueblo, New Mexico [previously listed as Pueblo of Santo Domingo]” to read “Santo Domingo Pueblo [previously listed as Kewa Pueblo, New Mexico, and as Pueblo of Santo Domingo]”.

On page 7554, in the third column, correct “Arapaho Tribe of the Wind River Reservation, Wyoming” to read “Northern Arapaho Tribe of the Wind River Reservation, Wyoming [previously listed as Arapaho Tribe of the Wind River Reservation, Wyoming]”.

Bryan Newland,
Principal Deputy Assistant Secretary—Indian Affairs, Exercising the delegated authority of the Assistant Secretary—Indian Affairs.

[FR Doc. 2021-06723 Filed 4-8-21; 8:45 am]

BILLING CODE 4337-15-P